DEPARTMENT OF ENERGY

Federal Energy Regulatory Commission

[Project No. 1494-438]

Grand River Dam Authority; Notice of Public Information Session

On December 13, 2017, Federal Energy Regulatory Commission (Commission) staff will host a public information session regarding the procedure for relicensing Grand River Dam Authority's (GRDA) Pensacola Hydroelectric Project No. 1494 (Pensacola Project). The project is located on the Grand (Neosho) River in Craig, Delaware, Mayes, and Ottawa Counties, Oklahoma.

a. Date, Time, and Location of Meeting: Wednesday, December 13, 2017, from 6:30 p.m. to 8:30 p.m.; Coleman Theatre Ballroom, 103 N. Main St., Miami, OK 74354; (918) 540-2425

b. FERC Contact: Rachel McNamara, 202-502-8340 or rachel.mcnamara@ferc.gov.

c. Purpose of Meeting: In January 2018, the Commission will commence relicensing of the project under the Integrated Licensing Process (ILP). To assist local, state, and federal agencies, Indian tribes, and other interested entities and individuals in participating during the relicensing process, Commission staff invite the public to attend information sessions about the ILP and how stakeholders can best participate in the process.

d. Proposed Agenda: The meeting will include an overview of the ILP and discussion of the specific process plan (schedule) for the Pensacola Project, opportunities for public comment, and how the Commission assesses information needs during the study planning process. There will also be time for stakeholders to ask any additional questions related to the relicensing process.

Dated: November 29, 2017.
Kimberly D. Bose,
Secretary.

[FR Doc. 2017-26138 Filed 12-4-17; 8:45 am]

BILLING CODE 6717-01-P